DEPARTMENT OF COMMERCE

Economic Development Administration

The National Advisory Council on Innovation and Entrepreneurship Meeting of the National Advisory Council on Innovation and Entrepreneurship

AGENCY: U.S. Department of Commerce.

ACTION: Notice of an Open Meeting Cancellation.

SUMMARY: The National Advisory Council on Innovation and Entrepreneurship (NACIE) has cancelled its open meeting, originally planned for Tuesday, February 19, 2013. The meeting, which was to be the quarterly meeting of NACIE, will not be held this quarter. We expect the next quarterly meeting to be held later this year. Please visit the Web site of the Economic Development Administration (www.eda.gov) to see documents related to previous NACIE meetings and activities and notices about future meetings.

FOR FURTHER INFORMATION CONTACT: Nish Acharya, Office of Innovation and Entrepreneurship, Room 70007R, 1401 Constitution Avenue, Washington DC 20230; telephone: 202-482-4068.

Dated: February 6, 2013.
Nish Acharya
Director, Office of Innovation & Entrepreneurship, U.S. Department of Commerce.

[FR Doc. 2013-03124 Filed 2-14-13; 8:45 am]

BILLING CODE 3510-03-P